OFFICE OF SCIENCE AND TECHNOLOGY POLICY

Proposed Principles for Federal Support of Graduate and Postdoctoral Education and Training in Science and Engineering

AGENCY: Executive Office of the President, Office of Science and Technology Policy (OSTP).

ACTION: Notice of proposed issuance of principles for Federal programs that provide support for post-baccalaureate education and training in science and engineering.

SUMMARY: The proposed principles are intended to increase collaboration and consistency within the Federal agencies in support of graduate and postdoctoral education and training in science and engineering. Principles are:

• Federal Support of Graduate and Postdoctoral Education and Training Is a Critical Investment in the Future;

• The Federal Investment Portfolio Must Broadly Support Science and Engineering Disciplines;

• Graduate Students and Postdoctoral Scholars Must Receive Quality Education and Training;

• Federal Contributions toward Graduate and Postdoctoral Education and Training are Provided in Partnership with Academic and Other Non-Federal Institutions;

• Graduate Students and Postdoctoral Scholars Should Be Adequately Supported to Encourage Their Pursuit of Science and Engineering Careers; and

• Federal Agencies Should Collaborate in Areas of Common Interest.

DATES AND ADDRESSES: Comments must be received by January 16, 2006. Electronic comments may be submitted to: MWeiss@ostp.eop.gov. Please include in the subject line the words “National Science and Technology Council (NSTC) Education and Workforce Development Comments.” Please put the full body of your comments in the text of the electronic message and as an attachment. Be certain to include your name, title, organization, postal address, telephone number, and e-mail address in the text of the message. A return message will acknowledge receipt of your comments.

FOR FURTHER INFORMATION CONTACT: For information regarding this Notice, please call Mark Weiss, Office of Science and Technology Policy, (202) 456-6129; e-mail MWeiss@ostp.eop.gov or fax (202) 456-6027.

SUPPLEMENTARY INFORMATION:

I. Background Information

The Federal Government supported approximately 60,000 graduate students and 30,000 postdoctoral scholars in science and engineering in 2001. About 44,000 (or 73%) of the graduate students and 24,000 (or 80%) of the postdoctoral scholars received their support as research assistants or associates on Federal grants and contracts. Most of the remaining 27% of the graduate students and 20% of the postdoctoral scholars received support through Federal agencies' fellowships or traineeships.¹

¹ In this document the term “science and engineering” includes, but is not limited to, agricultural, behavioral, biological, computer, engineering, environmental, mathematical, medical/clinical, physical, psychology, social, and veterinary sciences.

The data are taken from the 2002 Survey of Graduate Students and Postdoctorates in Science and Engineering (National Science Foundation/Division of Science Resources Statistics).

Research assistants or associates refer to graduate students or postdoctoral scholars funded through Federal research grants or contracts. The assistants or associates are not selected by the Federal agency, and the host institution determines their level of support. The principle purpose of their employment is the conduct of research, and any limitations imposed by their citizenship status are determined by the policies of the host institution.

Graduate students or postdoctoral scholars supported on Traineeships are usually not selected by the Federal agency, but the Federal agency determines their level of support (although in some cases the level of support-may be supplemented by other sources). The principle purpose of their traineeship support is their education and training, and they must be U.S citizens, permanent residents, or meet other policies of the Federal agency.

Graduate students or postdoctoral scholars supported on Fellowships are selected by the Federal agency, and the Federal agency determines their level of support (although in some cases their level of support may be supplemented by other sources). The principle purpose of their fellowship support is their education and training, and they must be U.S citizens or permanent residents or meet other policies of the Federal agency.

The Research Business Models Subcommittee of the Committee on Science, a committee of the National Science and Technology Council, conducted regional meetings in 2003 and issued a Federal Register notice asking for comments on ways to improve business practices of Federal research programs. Concern was raised about the lack of consistency among Federal agencies' support for graduate students and postdoctoral scholars in the nation's universities and other research organizations. In particular, universities administering Federal support for graduate students and postdoctoral scholars cited difficulties created by agency-to-agency variations in fellowship and traineeship stipends and allowances for educational and other costs.

The Committee on Science is proposing the six principles in Section II of this Supplementary Information Section as part of an effort to address these concerns. The principles are developed to help guide agencies in planning and designing, budgeting, and conducting extramural fellowship and traineeship programs (i.e., Federal fellowship and traineeship programs for which the graduate students and postdoctoral scholars are receiving their education and training in non-Federal institutions). Similarly, these principles should help guide Federal support of graduate students and postdoctoral scholars through other mechanisms, such as research assistantships supported by research grants or contracts, or through intramural programs.

The Committee on Science is also considering the establishment of the interagency process described in Section III of this Supplementary Information Section. This process is intended to support the agencies' use of the six principles on a continuing basis, in order to increase collaboration and consistency within the Federal government for supporting graduate and postdoctoral education and training in science and engineering.

II. Proposed Principles for Federal Support of Graduate and Postdoctoral Education and Training in Science and Engineering

• Federal Support of Graduate and Postdoctoral Education and Training Is a Critical Investment in the Future. Federal Government support for educating and training graduate and postdoctoral scientists and engineers is an essential investment in the future health, security, and quality of life of our Nation's citizens. To ensure continued access to the human resources that lie at the foundation of a preeminent research and development enterprise, we must provide encouragement and opportunities for students with the aptitude and desire to pursue advanced degrees in science and engineering. Increasing the participation of underrepresented minorities, women, and persons with disabilities in graduate and postdoctoral education and training is a critical aspect in realizing the full potential of the Nation's human resources in science and engineering. Federal Government support is critical because: timeframes for realizing the benefits of the education and training are beyond the investment horizons of most corporations; the magnitude of the required support exceeds the collective capacity of foundations and other private sponsors; and the resulting reservoir of talent is a national resource upon which all public and private sector employers of scientists and engineers ultimately draw.

• The Federal Investment Portfolio Must Broadly Support Science and Engineering Disciplines. The Federal Government-wide investment strategy should support graduate and postdoctoral education and training across a broad spectrum of science and engineering disciplines. It is increasingly the case that advances in knowledge and understanding arise from research in multiple disciplines. Similarly, follow-on development often requires teams of individuals from varying science and engineering fields. A workforce with strengths across disciplines therefore is imperative if experts from differing backgrounds are to be able to bring complementary perspectives to bear on complex problems. Another factor underlying the importance of the disciplinary breadth of the workforce is our inability to predict the areas that will contribute to any given advancement in the future. Even a problem initially raised in the context of a single discipline often is solved due to unanticipated contributions from other disciplines.

• Graduate Students and Postdoctoral Scholars Must Receive Quality Education and Training. Graduate students and postdoctoral scholars must receive an experience that combines both a high quality education and robust research training to secure the Nation's future scientific and engineering enterprise. Attention to their intellectual growth during these critical years requires an environment that includes effective mentoring to promote their career development. Federal agencies should encourage the earliest possible completion of graduate and postdoctoral education and training, as well as efforts that foster the transition to the next step in the graduate student or postdoctoral scholar's career. As is the case for research programs, making award decisions through the use of merit review based on objective, expert advice promotes excellence in education and training through fellowship and traineeship programs.

• Federal Contributions Toward Graduate and Postdoctoral Education and Training are Provided in Partnership With Academic and Other Non-Federal Institutions. Graduate or postdoctoral education and training require a significant investment that includes financial support for the individual graduate student or postdoctoral scholar, and the investment needed for institutions to provide the education and training. Generally, a Federal fellowship or traineeship program provides only a portion of this investment, with the balance provided by funds from other sources including, for example, the host institution, other Federal programs, States, private sector organizations, and individual contributions. Consequently, the Federal contribution toward this investment is made in partnership with academic and other institutions or parties. Federal agencies, therefore, should consider the impact on, and consult as appropriate, its partners when designing and conducting fellowship and traineeship programs. Federal agencies should have, and be able to articulate, a rational basis for the level of the Federal program's contribution toward the education and training of the fellows or trainees.

• Graduate Students and Postdoctoral Scholars Should Be Adequately Supported To Encourage Their Pursuit of Science and Engineering Careers. The level of support, including health and other benefits, provided to foster the education and training of graduate students and postdoctoral scholars is an important factor in attracting and retaining talented individuals to pursue careers in science and engineering. Levels of support provided by agencies should be reasonable and commensurate with the level of education and experience of the recipient. Agencies should consider annual adjustments in levels of support to address increases in the cost-of-living. Variances in support levels provided by Federal agencies may, for example, depend on program purpose, program budget constraints, or demand for individuals in critical areas; however, such variations should have clear, rational bases.

• Federal Agencies Should Collaborate in Areas of Common Interest. It is important for Federal agencies to coordinate their efforts to support education and training in science and engineering areas of common interest. Efforts among agencies should be synergistic and provide enhanced opportunities for graduate students and postdoctoral scholars. Agencies should collaborate to share data regarding these programs; to exchange information regarding effective practices; and to coordinate the design and conduct of programs, as appropriate.

III. Proposed Process for Interagency Coordination

The Committee on Science (CoS) is also considering a proposal from its Education and Workforce Development (EWD) Subcommittee to establish a standing working group with two purposes that promote implementation of the principles cited in Section II above. The first purpose of the working group is to serve as a forum for agencies to exchange information and collaborate with each other on their support of graduate and postdoctoral education and training. The second purpose of the working group is to report through the EWD Subcommittee to the CoS on levels of support provided by Federal extramural fellowship and traineeship programs.

IV. Invitation To Comment

Input on any aspect of the proposed principles or the proposed process for interagency coordination is encouraged. The following questions indicate particular areas for comment:

(a) Are there topics or issues not addressed in the principles that should be? If so, please explain.

(b) Are there additional approaches or strategies to achieve the objectives and promote interagency collaboration? If so, please explain.

M. David Hodge,
Acting Assistant Director for Budget and Administration.

[FR Doc. 05-22744 Filed 11-15-05; 8:45 am]

BILLING CODE 3710-W4-P